COMMODITY FUTURES TRADING COMMISSION

Sunshine Act Meetings

AGENCY: Commodity Futures Trading Commission.

ACTION: Notice of public meeting.

SUMMARY: Notice is hereby given that the Commodity Futures Trading Commission (“Commission”) will hold a joint technical conference with the Federal Energy Regulatory Commission at which all interested parties are invited to hear panel discussions on the feasibility of utilizing clearing to address the credit issues that exist in today's energy markets. The conference is open to the public and there is no registration fee.

DATES: Wednesday, February 5, 2003, from 9 a.m. to 4:30 p.m.

PLACE: Federal Energy Regulatory Commission, 888 First Street, NE., Washington, DC, Commission Meeting Room.

STATUS: Open.

FOR FURTHER INFORMATION CONTACT: Jean A. Webb, 202-418-5100.

Issued in Washington, DC this 24th day of January, 2003.
By the Commodity Futures Trading Commission.
Jean A. Webb,
Secretary of the Commission.

[FR Doc. 03-2161 Filed 1-27-03; 8:45 am]

BILLING CODE 6351-01-M